DEPARTMENT OF AGRICULTURE

Forest Service

36 CFR Part 223, 261

RIN 0596-AB81

Sale and Disposal of National Forest System Timber; Special Forest Products and Forest Botanical Products

AGENCY: Forest Service, USDA.

ACTION: Notice of delay of effective date.

SUMMARY: The Department is delaying the effective date of this rule. The Department previously delayed the effective date on March 30, 2009. More time is needed for the Forest Service to properly respond to the comments and to consider any potential changes to the rule. A Federal Register document will be published in the future that responds to the comments and sets the effective date. The rule regulates the sustainable free use, commercial harvest, and sale of special forest products and forest botanical products from National Forest System lands.

DATES: Effective May 29, 2009, the effective date for the rule published at 73 FR 79367, December 29, 2008, and delayed at 74 FR 14049, March 30, 2009, is delayed indefinitely. Forest Service will publish notification in the Federal Register when an effective date is established.

FOR FURTHER INFORMATION CONTACT: Richard Fitzgerald, Forest Service, Forest Management Staff, (202) 205-1753. Individuals who use telecommunication devices for the deaf (TDD) may call the Federal Information Relay Service (FIRS) at 1-800-877-8339 between 8 a.m. and 8 p.m., Eastern Standard Time, Monday through Friday.

SUPPLEMENTARY INFORMATION: The Department is delaying the effective date of the final rule published December 29, 2008 (73 FR 79367), which regulates the sustainable free use, commercial harvest, and sale of special forest products and forest botanical products from National Forest System lands. The Department previously delayed the effective date on March 30, 2009 (74 FR 14049). Further delay is necessary, because more time is needed for the Forest Service to properly respond to the comments and to consider any potential changes to the rule.

Dated: May 27, 2009.
Ann Bartuska,
Acting Deputy Under Secretary, Natural Resources and Environment.

[FR Doc. E9-12685 Filed 5-29-09; 8:45 am]

BILLING CODE 3410-11-P